DEPARTMENT OF COMMERCE

Foreign-Trade Zones Board

[B-11-2023]

Foreign-Trade Zone (FTZ) 121; Authorization of Production Activity; Curia Global, Inc.; (Pharmaceutical Chemicals Production); Rensselaer, New York

On February 1, 2023, the Capital District Regional Planning Commission, grantee of FTZ 121, submitted a notification of proposed production activity to the FTZ Board on behalf of Curia Global, Inc., within Subzone 121A, in Rensselaer, New York.

The notification was processed in accordance with the regulations of the FTZ Board (15 CFR part 400), including notice in the Federal Register inviting public comment (88 FR 7938, February 7, 2023). On June 1, 2023, the applicant was notified of the FTZ Board's decision that no further review of the activity is warranted at this time. The production activity described in the notification was authorized, subject to the FTZ Act and the FTZ Board's regulations, including section 400.14.

Dated: June 1, 2023.
Elizabeth Whiteman,
Executive Secretary.

[FR Doc. 2023-12036 Filed 6-5-23; 8:45 am]

BILLING CODE 3510-DS-P